DEPARTMENT OF COMMERCE

National Oceanic and Atmospheric Administration

[RTID 0648-XE139]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council including joint sessions with the Atlantic States Marine Fisheries Commission (ASMFC) Summer Flounder, Scup, and Black Sea Bass Management Board, Bluefish Management Board, and Interstate Fishery Management Program Policy Board.

DATES: The meetings will be held Monday, August 12 through Thursday, August 15, 2024. For agenda details, see SUPPLEMENTARY INFORMATION.

ADDRESSES: This meeting will be an in-person meeting with a virtual option. Council members, other meeting participants, and members of the public will have the option to participate in person at The Westin Philadelphia, 99 S 17th Street, Philadelphia, PA 19103, or virtually via Webex webinar. Webinar connection instructions and briefing materials will be available at: https://www.mafmc.org/briefing/august-2024.

Council address: Mid-Atlantic Fishery Management Council, 800 N State St., Suite 201, Dover, DE 19901; telephone: (302) 674-2331; www.mafmc.org.

FOR FURTHER INFORMATION CONTACT: Christopher M. Moore, Ph.D., Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible.)

Monday, August 12, 2024

Swearing in of New Council Members/Election of Officers

2025-2027 Golden Tilefish Specifications

Review 2024 management track assessment (NEFSC staff).

Review recommendations from the Scientific and Statistical Committee (SSC), Monitoring Committee, Advisory Panel, and staff.

Adopt specifications and management measures for 2025-2027.

2025 Blueline Tilefish Specifications

Review recommendations from the SSC, Monitoring Committee, Advisory Panel, and staff.

Adopt specifications for 2025.

Review and revise 2025 commercial and recreational measures if needed.

National Fish and Wildlife Foundation (NFWF) Electronic Monitoring and Reporting Grant Program—Willy Goldsmith, Pelagic Strategies

Overview of the program, application process, and upcoming funding opportunity.

NOAA Fisheries Ecosystem-Based Fisheries Management (EBFM) Road Map

Review and provide comments on the revised EBFM Road Map.

Northeast Trawl Advisory Panel (NTAP) Updates.

Update on recent activities.

Progress update on the Industry-Based Survey pilot project.

Tuesday, August 13, 2024

Council Process Review—Brett Wiedoff, Parnin Group.

Review final report from the Parnin Group.

2025 Atlantic Surfclam and Ocean Quahog Specifications.

Review recommendations from the Advisory Panel, SSC, and staff.

Review previously adopted 2025 specifications and management measures, and recommend changes if necessary.

———Lunch———

Council Convenes With the ASMFC Summer Flounder, Scup, and Black Sea Bass Management Board

MRIP Update and Listening Session—Katherine Papacostas, NOAA Fisheries MRIP Program Manager

Update on large-scale study on recreational fishing effort survey design.

Updates on FES timeline, re-envisioning the recreational fisheries data partnership initiative, and efforts to improve partner review of preliminary estimates.

2025 Summer Flounder Specifications

Review recommendations from the SSC, Monitoring Committee, Advisory Panel, and staff.

Review previously adopted specifications for 2025 and revise if necessary.

Review and revise 2025 commercial measures if needed.

Summer Flounder Mesh Exemptions Framework/Addendum

Approve draft addendum for public comment.

Council and Board Adjourn

Wednesday, August 14, 2024

Council Convenes With the ASMFC Summer Flounder, Scup, and Black Sea Bass Management Board

2025 Scup Specifications

Review recommendations from the SSC, Monitoring Committee, Advisory Panel, and staff.

Review previously adopted specifications for 2025 and revise if necessary.

Review and revise 2025 commercial measures if needed.

2025 Black Sea Bass Specifications

Review 2024 management track assessment (NEFSC staff).

Review recommendations from the SSC, Monitoring Committee, Advisory Panel, and staff.

Adopt specifications for 2025.

Review and revise 2025 commercial measures if needed.

Council Adjourns

ASMFC Summer Flounder, Scup, and Black Sea Bass Board Only

ASMFC Summer Flounder, Scup, and Black Sea Bass Fishery Management Plan review.

Elect Board Vice-Chair.

———Lunch———

Council Convenes With ASMFC Interstate Fishery Management Program Policy Board

Recreational Measures Setting Process Framework/Addenda

Review FMAT/PDT recommendations.

Review SSC input.

Consider modifications to the draft range of alternatives.

Council Convenes with ASMFC Bluefish Management Board.

2025 Bluefish Specifications

Review recommendations from the SSC, Monitoring Committee, Advisory Panel, and staff.

Review previously adopted specifications for 2025 and revise as necessary.

Review and revise 2025 commercial and recreational measures if needed.

Council Adjourns

ASMFC Bluefish Board Only

ASMFC Bluefish Fishery Management Plan review.

Elect Board Vice-Chair.

Thursday, August 15, 2024

Business Session

Committee Reports (SSC); Executive Director's Report; Organization Reports; and Liaison Reports.

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: July 23, 2024.
Rey Israel Marquez,
Acting Deputy Director, Office of Sustainable Fisheries, National Marine Fisheries Service.

[FR Doc. 2024-16564 Filed 7-26-24; 8:45 am]

BILLING CODE 3510-22-P